DEPARTMENT OF THE INTERIOR

National Park Service

General Management Plan/Environmental Impact Statement, Colorado National Monument, Colorado

AGENCY: National Park Service, Department of the Interior.

ACTION: Notice of Intent to prepare an environmental impact statement for the general management plan, Colorado National Monument.

SUMMARY: Under the provisions of the National Environmental Policy Act, the National Park Service is preparing an environmental impact statement for the general management plan for Colorado National Monument. The environmental impact statement will be approved by the Director, Intermountain Region.

Colorado National Monument was established May 24, 1911 by Presidential William H. Taft, under the authority of the Antiquities Act (1906), because “[t]he extraordinary examples of erosion are of great scientific interest, and it appears that the public interest would be promoted by reserving these natural formations as a National Monument, together with as much public land as may be necessary for the proper protection thereof.” Two later Presidential proclamations (1933 and 1959) added additional land to the Colorado National Monument, primarily for the protection of “* * * features of historical and scientific interest and for the protection of the Rim Road * * *”

The general management plan will prescribe the resource conditions and visitor experiences that are to be achieved and maintained in the monument over time. The clarification of what must be achieved according to law and policy will be based on review of the park's purpose, significance, special mandates, and the body of laws and policies directing park management. Management decisions to be made where law, policy, or regulations do not provide clear guidance or limits will be based on the purposes of the monument, the range of public expectations and concerns, resource analysis, an evaluation of the natural, cultural, and social impacts of alternative courses of action, and consideration of long-term economic costs. Based on determinations of desired conditions, the general management plan will outline the kinds of resource management activities, visitor activities, and development that would be appropriate in the monument in the future. Alternatives will be developed through this planning process and will include, at a minimum, no-action and the preferred alternative. Major issues include protection of natural and cultural resources; the adequacy of interpretive programs; potential partnerships with other agencies, organizations, and local interests; and boundary concerns.

The National Park Service is planning to begin public scoping in January 2002, via a newsletter to state and Federal agencies; associated American Indian tribes; neighboring communities; county commissioners; local organizations, researchers and institutions; the Congressional Delegation; and visitors who signed up to be on the mailing list. In addition, the National Park Service will hold public scoping meetings regarding the general management plan, beginning in January 2002. Specific dates, times, and locations will be announced in the local media and will also be available by contacting the Superintendent of Colorado National Monument. There will also be a web site for the general management plan, established at a later date. The purpose of the newsletter, public meetings, and web site is to explain the planning process and to obtain comments concerning appropriate resource management; desired visitor experience and use, and facilities; as well as any other issues that need to be addressed. In addition to attending the scoping meetings, people wishing to provide input to this initial phase of developing the general management plan may address comments to the superintendent. Scoping comments should be received no later that 60-days from the publication of this Notice of Intent.

FOR FURTHER INFORMATION CONTACT: Contact Superintendent Palma Wilson, Colorado National Monument, Fruita, CO, 81521-0001; Tel: (970) 858-3617; FAX: (970) 858-0372; e-mail: palma_wilson@nps.gov.

Dated: October 19, 2001.
Karen P. Wade,
Director, Intermountain Region.

[FR Doc. 02-6043 Filed 3-12-02; 8:45 am]

BILLING CODE 4310-70-P